DEPARTMENT OF ENERGY

Federal Energy Regulatory Commission

[Docket No. RP01-76-000]

Northern Natural Gas Company; Notice Shortening Comment Period

December 26, 2000.

On December 22, 2000, Reliant Energy Minnegasco (Minnegasco) filed a Motion for Extension of Time Within Which to File Comments in the above-docketed proceeding. In the filing, Minnegasco requested that the period for submitting answers to the extension motion be shortened in order to expedite Commission review of the filing. By this notice, the date for filing answers to Minnegasco's Motion for Extension of Time is shortened to and including December 28, 2000.

Linwood A. Watson, Jr.,
Acting Secretary.

[FR Doc. 00-33386 Filed 12-29-00; 8:45 am]

BILLING CODE 6717-01-M